DEPARTMENT OF AGRICULTURE

Animal and Plant Health Inspection Service

7 CFR Part 319

[Docket No. APHIS-2012-0002]

RIN 0579-AD63

Importation of Avocados From Continental Spain

AGENCY: Animal and Plant Health Inspection Service, USDA.

ACTION: Proposed rule; reopening of comment period.

SUMMARY: We are reopening the comment period for our proposed rule that would allow the importation of avocados from continental Spain (excluding the Balearic Islands and Canary Islands) into the United States. This action will allow interested persons additional time to prepare and submit comments.

DATES: We will consider all comments that we receive on or before June 13, 2013.

ADDRESSES: You may submit comments by either of the following methods:

• Federal eRulemaking Portal: Go to http://www.regulations.gov/#!documentDetail;D=APHIS-2012-0002-0001.

• Postal Mail/Commercial Delivery: Send your comment to Docket No. APHIS-2012-0002, Regulatory Analysis and Development, PPD, APHIS, Station 3A-03.8, 4700 River Road Unit 118, Riverdale, MD 20737-1238.

Supporting documents and any comments we receive on this docket may be viewed at http://www.regulations.gov/#!docketDetail;D=APHIS-2012-0002 or in our reading room, which is located in room 1141 of the USDA South Building, 14th Street and Independence Avenue SW., Washington, DC. Normal reading room hours are 8 a.m. to 4:30 p.m., Monday through Friday, except holidays. To be sure someone is there to help you, please call (202) 799-7039 before coming.

FOR FURTHER INFORMATION CONTACT: Ms. Meredith C. Jones, Senior Regulatory Policy Specialist, Regulatory Coordination and Compliance, PPQ, APHIS, 4700 River Road Unit 133, Riverdale, MD 20737-1231; (301) 851-2289.

SUPPLEMENTARY INFORMATION:

Background

On January 30, 2013, we published in the Federal Register (78 FR 6222-6227, Docket No. APHIS-2012-0002), a proposal ¹ to amend the fruits and vegetables regulations to allow the importation of avocados from continental Spain (excluding the Balearic Islands and Canary Islands) into the United States subject to a systems approach and treatment.

¹ To view the proposed rule, risk documents, and the comments we received, go to http://www.regulations.gov/#!docketDetail;D=APHIS-2012-0002.

Comments on the proposed rule were required to be received on or before April 1, 2013. We are reopening the comment period on Docket No. APHIS-2012-0002 for an additional 15 days. This action will allow interested persons additional time to prepare and submit comments. We will also accept comments received between April 2, 2013 (the day after the close of the original comment period) and the date of this notice.

Authority: 7 U.S.C. 450, 7701-7772, and 7781-7786; 21 U.S.C. 136 and 136a; 7 CFR 2.22, 2.80, and 371.3.

Done in Washington, DC, this 22nd day of May 2013.
Kevin Shea,
Acting Administrator, Animal and Plant Health Inspection Service.

[FR Doc. 2013-12679 Filed 5-28-13; 8:45 am]

BILLING CODE 3410-34-P